DEPARTMENT OF TRANSPORTATION

Office of the Secretary

Aviation Proceedings, Agreements Filed the Week Ending November 25, 2005

The following Agreements were filed with the Department of Transportation under the sections 412 and 414 of the Federal Aviation Act, as amended (49 U.S.C. 1382 and 1384) and procedures governing proceedings to enforce these provisions. Answers may be filed within 21 days after the filing of the application.

Docket Number: OST-2005-23125.

Date Filed: November 22, 2005.

Parties: Members of the International Air Transport Association.

Subject: TC23/TC123 Passenger Tariff Coordinating Conference (SP-4120), Geneva, September 5-9, 2005.

TC23/123 Europe-Japan/Korea Resolutions (Memo 0131).

TC23/TC123 Passenger Tariff Coordinating Conference (SP-4185), Geneva, September 5-9, 2005.

TC23/123 Europe-Japan/Korea Resolutions (Memo 0134).

Minutes: TC23/TC123 Passenger Tariff Coordinating Conference, Geneva, September 5-9, 2005. (Memo 0136).

Tables: TC23/TC123 Passenger Tariff Coordinating Conference (SP-4185), Geneva, 5-9 September 2005 Specified Fares Tables. (Memo 0069 and Memo 0071).

Technical Correction: TC23/TC123 Passenger Tariff Coordinating Conference (SP-4185). Geneva, September 5-9, 2005 Specified Fares Tables (Memo 072).

Intended effective date: April 1, 2006.

Docket Number: OST-2005-23126.

Date Filed: November 22, 2005.

Parties: Members of the International Air Transport Association.

Subject: PTC3 Mail Vote 468. Special Passenger Amending Resolution 010b, from Singapore to Brunei, Macao SAR, Philippines.

Intended effective date: December 1, 2005.

Docket Number: OST-2005-23139.

Date Filed: November 22, 2005.

Parties: Members of the International Air Transport Association.

Subject: TC123 Passenger Tariff Coordinating Conferences, Bangkok, October 24-November 1, 2005.

TC123 South Atlantic Resolution 002ce (Memo 0318).

Technical Correction: TC123 Passenger Tariff Coordination Conferences, Bangkok, October 24-November 1 2005.

TC123 South Atlantic Resolution 002ce (Memo 0320).

Intended effective date: December 15, 2005.

Docket Number: OST-2005-23140.

Date Filed: November 22, 2005.

Parties: Members of the International Air Transport Association.

Subject: PTC23 Mail Vote 467. Special Passenger Amending Resolution 010a, from Korea (Rep. of) to Middle East.

Intended effective date: December 1, 2005.

Docket Number: OST-2005-23146.

Date Filed: November 23, 2005.

Parties: Members of the International Air Transport Association.

Subject: PAC/1/2/3 dated October 28, 2005. Mail Vote Number A 124. Amended Procedure for Updates to the BSP Manual for Agents.

PAC 3 dated October 28, 2005. Mail Vote Number A 125. Implementation of Resolution 810 in Sri Lanka.

Intended effective date: January 1, 2006.

Docket Number: OST-2005-23154.

Date Filed: November 25, 2005.

Parties: Members of the International Air Transport Association.

Subject: PTC3 Mail Vote 469. Special Passenger Amending Resolution 010c, from Korea (Rep. of) to Japan (Memo 0902).

Intended effective date: December 5, 2005.

Renee V. Wright,
Program Manager, Docket Operations, Federal Register Liaison.

[FR Doc. E5-7066 Filed 12-7-05; 8:45 am]

BILLING CODE 4910-P